DEPARTMENT OF TRANSPORTATION

Office of the Secretary

49 CFR Part 40

[Docket No. OST-99-6578]

RIN 2105-AC49

Procedures for Transportation Workplace Drug and Alcohol Testing Programs

AGENCY: Office of the Secretary, DOT.

ACTION: Notice of proposed rulemaking; forum announcement.

SUMMARY: This document announces an electronic public discussion forum through which the public may provide comment on the U.S. Department of Transportation's (DOT) notice of proposed rulemaking (NPRM) to revise the Department's drug and alcohol testing procedures, published in the Federal Register on December 9, 1999 (64 FR 69076). The electronic public discussion forum (commonly referred to as a “bulletin board”) will be available to the public for a three-day period from April 3, 2000 through April 5, 2000. The electronic public discussion forum is an alternative means by which the public may provide comments, or have last-minute questions addressed, on the drug and alcohol procedures originally published at 64 FR 69076 on December 9, 1999. All comments, questions, and answers will become part of the total docket package.

DATES: The electronic public discussion forum will be available to the public from 12:00 AM, EST, April 3, 2000 through 11:59 PM, EST, April 5, 2000.

ADDRESSES: The Internet address for the electronic public discussion forum is http://dot.kudosnet.net/. Comments addressed to this site will become part of the Dockets Management System, U.S. Department of Transportation, Room PL-401, 400 Seventh Street, SW., Washington, DC 20590-0000.

FOR FURTHER INFORMATION CONTACT: For general information on the electronic public discussion forum, contact Kenneth Edgell, Office of Drug and Alcohol Policy and Compliance, U.S. Department of Transportation, Room 10403, 400 Seventh Street, SW., Washington, DC 20590, telephone number (202) 366-3784, fax number (202) 366-3897, or e-mail at kenneth.edgell@ost.dot.gov.

SUPPLEMENTARY INFORMATION: The purpose of the electronic public discussion forum is to provide an alternative capacity for gathering comments on the Department's proposed drug and alcohol procedures. Another capability of the bulletin board-type system is to allow interchange between the public and the Office of Drug and Alcohol Policy and Compliance to attempt to clarify issues, or answer last-minute questions, for the public through a question and answer format. Topics can be generated, questions may be posed, and clarification will be provided (by ODAPC). All of the interchange (e.g., question, answers, comments) generated in this context will be viewable by all users of the system. Specific instructions for use of the electronic public discussion forum will be provided at the Internet site.

Issued this 15th day of March, 2000, at Washington, DC.
Mary Bernstein,
Director, Office of Drug and Alcohol Policy and Compliance, Department of Transportation.

[FR Doc. 00-6879 Filed 3-20-00; 8:45 am]

BILLING CODE 4910-62-P